DEPARTMENT OF DEFENSE

Department of the Army

Availability for Non-Exclusive, Exclusive, or Partially Exclusive Licensing of U.S. Patent Application Concerning Schlager Blast Utility Program

AGENCY: U.S. Army Medical Research and Materiel Command, DoD.

ACTION: Notice.

SUMMARY: In accordance with 37 CFR 404.6, announcement is made of the availability for licensing of U.S. Patent Application Serial No. 60/235,899 entitled “Schlager Blast Utility Program” and filed September 28, 2000. This patent application has been assigned to the United States Government as represented by the Secretary of the Army.

ADDRESSES: Commander, U.S. Army Medical Research and Materiel Command, ATTN: Command Judge Advocate, MCMR-JA, 504 Scott Street, Fort Detrick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: An object-oriented program was developed to run in Windows environment. The program is designed (1) to identify DNA in multiple sequence files; (2) to electronically capture search results from the National Center for Biotechnology Institute (NCBI) databases; and (3) to retrieve stored results data in a interconnected file structure organized for easy review and further analysis. The program automatically creates folders for placement of sequence identification data, locates known sequences of DNA for removal, interacts with the BLAST program on the NCBI website to identify unknown DNA data by sequence comparison, stores and parses the HTML formatted match results into Excel files and compiles the best match from each file into a DNA library file. The program automates each of these steps involved in the identification of the DNA nucleotide sequences capturing all pertinent NCBI data in a spreadsheet format.

Luz D. Ortiz,
Army Federal Register Liaison Officer.

[FR Doc. 01-8555 Filed 4-5-01; 8:45 am]

BILLING CODE 3710-08-M